AGENCY FOR INTERNATIONAL DEVELOPMENT

Agency Information Collection Activities; Submission to the Office of Management and Budget for Review and Approval; Comment Request

AGENCY: U.S. Agency for International Development.

ACTION: Notice of information collection.

SUMMARY: U.S. Agency for International Development (USAID), as part of its continuing effort to reduce paperwork and respondent burden, invites the general public and other Federal agencies to take this opportunity to comment on this information collection. Comments are requested concerning whether the continuing collections of information are necessary for the proper performance of the functions of the agency, including whether the information shall have practical utility; the accuracy of the burden estimates; ways to enhance the quality, utility, and clarity of the information collected; and ways to minimize the burden of the collection of the information on the respondents, including the use of automated collection techniques or other forms of information technology.

FOR FURTHER INFORMATION CONTACT: Send comments via email to the COVID-19 Task Force to United States Agency for International Development at covidtask_coop@usaid.gov.

SUPPLEMENTARY INFORMATION:

OMB Number: 0412-0605.

Form Number: XXXX.

Title: USAID Partner Survey: Operating in the COVID-19 Environment.

Type of Review: Emergency.

Purpose

In response to COVID-19, USAID's top priority is to protect the safety, health, and security of our global workforce—including our Implementing Partners, in order to ensure that we can continue our life-saving mission across the world, and support partner countries in their response to COVID-19.

The purpose of this survey is to help USAID's COVID-19 Task Force to get an expansive view of our programs and the challenges being faced by our implementing partners. With this information, USAID hopes to identify opportunities to support implementing partners, programs, and partner countries during COVID-19.

Annual Reporting Burden

Respondents: 4,000.

Total Annual Response: 4,000.

Estimated Total Annual Burden Hours: 0.

Kenneth William Staley,
U.S. Global Malaria Coordinator.

[FR Doc. 2020-10051 Filed 5-8-20; 8:45 am]

BILLING CODE P